DEPARTMENT OF ENERGY

Federal Energy Regulatory Commission

Combined Notice of Filings #1

Take notice that the Commission received the following electric corporate filings:

Docket Numbers: EC22-87-000.

Applicants: Berkshire Hathaway Inc.

Description: Application for Authorization Under Section 203 of the Federal Power Act of Berkshire Hathaway Inc.

Filed Date: 7/11/22.

Accession Number: 20220711-5234.

Comment Date: 5 p.m. ET 8/25/22.

Docket Numbers: EC22-88-000.

Applicants: Edwards Sanborn Storage I, LLC, Edwards Sanborn Storage II, LLC, ES 1A Group 2 Opco, LLC, ES 1A Group 3 Opco, LLC, Daylight I, LLC, Edwards Solar Line I, LLC, Sanborn Solar Line I, LLC, Axium ES Holdings LLC.

Description: Joint Application for Authorization Under Section 203 of the Federal Power Act of Edwards Sanborn Storage I, LLC, et al.

Filed Date: 7/12/22.

Accession Number: 20220712-5127.

Comment Date: 5 p.m. ET 8/2/22.

Take notice that the Commission received the following exempt wholesale generator filings:

Docket Numbers: EG22-163-000.

Applicants: SR DeSoto I, LLC.

Description: SR DeSoto I, LLC submits Notice of Self-Certification of Exempt Wholesale Generator Status.

Filed Date: 7/8/22.

Accession Number: 20220708-5270.

Comment Date: 5 p.m. ET 7/29/22.

Docket Numbers: EG22-164-000.

Applicants: SR Turkey Creek, LLC.

Description: SR Turkey Creek, LLC submits Notice of Self-Certification of Exempt Wholesale Generator Status.

Filed Date: 7/8/22.

Accession Number: 20220708-5272.

Comment Date: 5 p.m. ET 7/29/22.

Docket Numbers: EG22-165-000.

Applicants: SR DeSoto I Lessee, LLC.

Description: SR DeSoto I Lessee, LLC submits Notice of Self-Certification of Exempt Wholesale Generator Status.

Filed Date: 7/8/22.

Accession Number: 20220708-5276.

Comment Date: 5 p.m. ET 7/29/22.

Take notice that the Commission received the following electric rate filings:

Docket Numbers: ER19-842-003.

Applicants: Energy Center Paxton LLC.

Description: Notice of Change in Status of Energy Center Paxton LLC.

Filed Date: 7/11/22.

Accession Number: 20220711-5231.

Comment Date: 5 p.m. ET 8/1/22.

Docket Numbers: ER21-326-001.

Applicants: Direct Energy Business Marketing, LLC.

Description: Refund Report: Refund Report to be effective N/A.

Filed Date: 7/12/22.

Accession Number: 20220712-5037.

Comment Date: 5 p.m. ET 8/2/22.

Docket Numbers: ER22-1698-002.

Applicants: EDF Spring Field WPC, LLC.

Description: Tariff Amendment: 2d Tariff Amendment and Request for Shortened Comment Period—EDF Spring Field to be effective 6/28/2022.

Filed Date: 7/12/22.

Accession Number: 20220712-5075.

Comment Date: 5 p.m. ET 8/2/22.

Docket Numbers: ER22-2333-000.

Applicants: AES Laurel Mountain, LLC.

Description: § 205(d) Rate Filing: AES Laurel Mountain, LLC Shared Facilities Agreement to be effective 7/12/2022.

Filed Date: 7/11/22.

Accession Number: 20220711-5173.

Comment Date: 5 p.m. ET 8/1/22.

Docket Numbers: ER22-2334-000.

Applicants: Laurel Mountain BESS, LLC.

Description: § 205(d) Rate Filing: Laurel Mountain BESS, LLC Shared Facilities Agreement to be effective 7/12/2022.

Filed Date: 7/11/22.

Accession Number: 20220711-5176.

Comment Date: 5 p.m. ET 8/1/22.

Docket Numbers: ER22-2335-000.

Applicants: Public Service Company of New Mexico.

Description: Compliance filing: PNM Compliance with Order No. 881 to be effective 7/12/2025.

Filed Date: 7/11/22.

Accession Number: 20220711-5185.

Comment Date: 5 p.m. ET 8/1/22.

Docket Numbers: ER22-2336-000.

Applicants: Midcontinent Independent System Operator, Inc., Ameren Illinois Company.

Description: § 205(d) Rate Filing: Midcontinent Independent System Operator, Inc. submits tariff filing per 35.13(a)(2)(iii: 2022-07-12_SA 3028 Ameren IL-Prairie Power 1st Rev Project#14-A Pleasant View to be effective 7/13/2022.

Filed Date: 7/12/22.

Accession Number: 20220712-5015.

Comment Date: 5 p.m. ET 8/2/22.

Docket Numbers: ER22-2338-000.

Applicants: King Forest Industries, Inc.

Description: Notice of Cancellation of Market Based Rate Tariff of King Forest Industries, Inc.

Filed Date: 7/7/22.

Accession Number: 20220707-5226.

Comment Date: 5 p.m. ET 7/28/22.

Docket Numbers: ER22-2339-000.

Applicants: Southwest Power Pool, Inc.

Description: Compliance filing: Order No. 881 Compliance Filing to Implement Transmission Line Ratings to be effective 7/12/2025.

Filed Date: 7/12/22.

Accession Number: 20220712-5033.

Comment Date: 5 p.m. ET 8/2/22.

Docket Numbers: ER22-2340-000.

Applicants: Basin Electric Power Cooperative.

Description: § 205(d) Rate Filing: Basin Electric Power Cooperative Order No. 881 Compliance Filing to be effective 7/12/2025.

Filed Date: 7/12/22.

Accession Number: 20220712-5035.

Comment Date: 5 p.m. ET 8/2/22.

Docket Numbers: ER22-2341-000.

Applicants: Alabama Power Company, Georgia Power Company, Mississippi Power Company.

Description: Compliance filing: Alabama Power Company submits tariff filing per 35: Order No. 881 Compliance Filing to be effective 7/12/2025.

Filed Date: 7/12/22.

Accession Number: 20220712-5048.

Comment Date: 5 p.m. ET 8/2/22.

Docket Numbers: ER22-2342-000.

Applicants: PJM Interconnection, L.L.C.

Description: § 205(d) Rate Filing: Revisions to Generator Deactivation Analyses Process and Timing to be effective 9/11/2022.

Filed Date: 7/12/22.

Accession Number: 20220712-5052.

Comment Date: 5 p.m. ET 8/2/22.

Docket Numbers: ER22-2343-000.

Applicants: Southwest Power Pool, Inc.

Description: § 205(d) Rate Filing: Tariff Clean-Up Filing 20220601 to be effective 6/1/2022.

Filed Date: 7/12/22.

Accession Number: 20220712-5059.

Comment Date: 5 p.m. ET 8/2/22.

Docket Numbers: ER22-2344-000.

Applicants: Southwest Power Pool, Inc.

Description: § 205(d) Rate Filing: Revisions to Allow Storage Facilities to be Transmission Only Assets to be effective 12/31/9998.

Filed Date: 7/12/22.

Accession Number: 20220712-5067.

Comment Date: 5 p.m. ET 8/2/22.

Docket Numbers: ER22-2345-000.

Applicants: NorthWestern Corporation.

Description: Compliance filing: Order No. 881 Compliance Filing Transmission Line Ratings to be effective 7/12/2025.

Filed Date: 7/12/22.

Accession Number: 20220712-5072.

Comment Date: 5 p.m. ET 8/2/22.

Docket Numbers: ER22-2346-000.

Applicants: El Paso Electric Company.

Description: Compliance filing: OATT Order No. 881 Compliance Filing—TOC and Attachment O to be effective 7/12/2025.

Filed Date: 7/12/22.

Accession Number: 20220712-5074.

Comment Date: 5 p.m. ET 8/2/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 12, 2022..
Debbie-Anne A. Reese,
Deputy Secretary.

[FR Doc. 2022-15257 Filed 7-15-22; 8:45 am]

BILLING CODE 6717-01-P